DEPARTMENT OF ENERGY

Federal Energy Regulatory Commission

[Docket No. CP21-113-000]

Alliance Pipeline, L.P.; Notice Suspending Environmental Review Schedule of the Proposed Three Rivers Interconnection Project

The staff of the Federal Energy Regulatory Commission (FERC or Commission) is suspending the environmental review schedule of the Three Rivers Interconnection Project (Project) involving construction and operation of facilities by Alliance Pipeline, L.P. (Alliance) in Grundy County, Illinois. The Notice of Intent to Prepare an Environmental Impact Statement for the Proposed Three Rivers Interconnection Project, Request for Comments on Environmental Issues, and Schedule for Environmental Review, issued on February 10, 2022, identified a September 16, 2022 final Environmental Impact Statement (EIS) issuance date. As stated in the notice, the Project would be located in the vicinity of a facility regulated by the Nuclear Regulatory Commission which could require the completion of a safety analysis, and additional time may be necessary to consider the results of that analysis.

In its most recent response to FERC staff's request concerning the status of this safety analysis, Alliance stated that it anticipated that the operator of the nearby nuclear facility (Constellation Energy Generation, LLC) would finalize the required safety analysis by the end of August 2022. However, to date, the safety analysis remains outstanding.

Therefore, the Commission will suspend the environmental review schedule for the Project. Once Alliance provides the outstanding information, the Commission will issue a revised schedule for the final EIS. This is not a suspension of the Commission staff's review of the Project. Staff will continue to process Alliance's proposal to the extent possible based upon the information filed to date while awaiting the remaining information.

Additional Information

Additional information about the Project are available from the Commission's Office of External Affairs, at (866) 208-FERC, or on the FERC website at www.ferc.gov using the eLibrary link. Click on the eLibrary link, click on “General Search” and enter the docket number in the “Docket Number” field (i.e., CP21-113-000). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: September 15, 2022.
Kimberly D. Bose,
Secretary.

[FR Doc. 2022-20409 Filed 9-20-22; 8:45 am]

BILLING CODE 6717-01-P